FEDERAL ELECTION COMMISSION

Sunshine Act Notices

* * * * *

Date and Time: Thursday, December 1, 2005, at 10 a.m.

Place: 999 E Street, NW., Washington, DC (ninth floor).

Status: This meeting will be open to the public.

Items to be Discussed:

Correction and approval of minutes.

Final rules and explanation and justification for state party committees paying salaries of employees who spend under 25% of their compensated time on federal elections.

Routine administrative matters.

Person to Contact for Information: Mr. Robert Biersack, Press Officer, Telephone: (202) 694-1220.

Mary W. Dove,
Secretary of the Commission.

[FR Doc. 05-23413 Filed 11-23-05; 11:22 am]

BILLING CODE 6715-01-M